DEPARTMENT OF EDUCATION

Applications for New Awards; Personnel Development To Improve Services and Results for Children With Disabilities—National Center for Supporting School Building and Early Intervention Program Administrators To Effectively Implement IDEA and Improve Systems Serving Children With Disabilities

AGENCY: Office of Special Education and Rehabilitative Services, Department of Education.

ACTION: Notice.

SUMMARY: The Department of Education (Department) is issuing a notice inviting applications for a new award for fiscal year (FY) 2023 for a National Center for Supporting School Building and Early Intervention Program (EIP) Administrators to Effectively Implement the Individuals with Disabilities Education Act (IDEA) and Improve Systems Serving Children with Disabilities, Assistance Listing Number 84.325Z. This notice relates to the approved information collection under OMB control number 1820-0028.

DATES:

Applications Available: June 29, 2023.

Deadline for Transmittal of Applications: August 18, 2023.

Pre-Application Webinar Information: No later than July 5, 2023, the Office of Special Education and Rehabilitative Services will post details on pre-recorded informational webinars designed to provide technical assistance (TA) to interested applicants. Links to the webinars may be found at https://www2.ed.gov/fund/grant/apply/osep/new-osep-grants.html.

ADDRESSES: For the addresses for obtaining and submitting an application, please refer to our Common Instructions for Applicants to Department of Education Discretionary Grant Programs, published in the Federal Register on December 7, 2022 (87 FR 75045) and available at www.federalregister.gov/documents/2022/12/07/2022-26554/common-instructions-for-applicants-to-department-of-education-discretionary-grant-programs. Please note that these Common Instructions supersede the version published on December 27, 2021.

FOR FURTHER INFORMATION CONTACT: Sarah Allen, U.S. Department of Education, 400 Maryland Avenue SW, Room 5135, Potomac Center Plaza, Washington, DC 20202-5076. Telephone: (202) 245-7875. Email: Sarah.Allen@ed.gov.

If you are deaf, hard of hearing, or have a speech disability and wish to access telecommunications relay services, please dial 7-1-1.

SUPPLEMENTARY INFORMATION:

Full Text of Announcement

I. Funding Opportunity Description

Purpose of Program: The purposes of the program are to (1) help address State-identified needs for personnel preparation in special education, early intervention, related services, and regular education to work with children, including infants and toddlers, and youth with disabilities; and (2) ensure that those personnel have the necessary skills and knowledge, derived from practices that have been determined through scientifically based research, to be successful in serving those children.

Priority: This competition includes one absolute priority. In accordance with 34 CFR 75.105(b)(2)(v), this priority is from allowable activities specified in the statute (see sections 662 and 681 of IDEA; 20 U.S.C. 1462 and 1481).

Absolute Priority: For FY 2023 and any subsequent year in which we make awards from the list of unfunded applications from this competition, this priority is an absolute priority. Under 34 CFR 75.105(c)(3), we consider only applications that meet this priority.

This priority is:

The National Center for Supporting School Building and EIP Administrators to Effectively Implement IDEA and Improve Systems Serving Children with Disabilities.

Background:

Nearly 50 years after the enactment and implementation of the Education for All Handicapped Children Act of 1975 (reauthorized as IDEA), which mandated that all children with disabilities have access to a free appropriate public education (FAPE) in the least restrictive environment (LRE), to the extent appropriate, the IDEA is still not being implemented fully and consistently across all States and for all eligible children. Sections 616(d) and 642 of IDEA require the Secretary to make an annual determination as to the extent to which each State's Part B and Part C programs are meeting the requirements of IDEA. In FY 2022, only 37 percent of States and entities, or 22 of 60, met the Part B requirements of IDEA. Similarly, only 54 percent, or 30 of 56, States and entities met the Part C requirements of IDEA (U.S. Department of Education, 2022).

Under section 612(a)(11) of IDEA, the State educational agency (SEA) is responsible for ensuring that all local educational agencies (LEAs) within the State provide FAPE in the LRE to all children and youth with disabilities served under Part B (children with disabilities) within their local jurisdiction. Similarly, under section 635(a)(10) of IDEA, the State lead agency, either directly or through its early intervention service (EIS) providers under 34 CFR 303.12, is responsible for providing early intervention services to eligible infants and toddlers with disabilities and their families. School building administrators, including principals and vice principals, and EIP administrators (which may include administrators responsible for managing personnel in State lead agencies, EIS providers, and EIS programs) are on the front lines of IDEA implementation and are responsible for ensuring children with disabilities are provided the services and supports for which they are eligible under the IDEA as well as others intended to protect children with disabilities, including under Section 504 of the Rehabilitation Act. School building and EIP administrators help set high expectations for performance in schools and among EIS providers and ensure that the unique, individualized needs of each infant, toddler, or child with a disability are met consistent with their individualized education program (IEP) or individualized family service plan (IFSP).

School building and EIP administrators must manage resources, personnel, and a myriad of educational and other programs in their schools and EIPs and ensure compliance with multiple interacting laws protecting children with disabilities. Because these administrators are required to make decisions about the operations and financial support of the programs offered in their building, it is essential that these school building and EIP administrators have the knowledge, skills, and competencies to ensure, consistent with the IDEA requirements, the delivery of FAPE in the LRE for children with disabilities or the provision of early intervention services for infants and toddlers with disabilities and their families.

Given that school building and EIP administrators have complex roles, it is not surprising that those who are well trained handle the multi-faceted demands of the role better and tend to stay in their jobs longer (Herman et al., 2022). They are instrumental in supporting teachers and providers' practices, motivating school and EIP staff, maintaining a positive school or program climate, and ensuring inclusive settings are offered. High turnover of school building and EIP administrators can be disruptive to maintaining an environment that supports appropriate outcomes for children with disabilities. As a result, high administrator turnover can lead to higher teacher and provider turnover and lower child outcomes (e.g., lower student achievement, lower gains in learning or development outcomes for young children) (Levin & Bradley, 2019). Access to professional learning opportunities is an important factor influencing job satisfaction and retention of administrators (Boyce & Bowers, 2016). In addition to covering essential research-based content on topics such as learning and teaching, instructional leadership, data-based decision making, and systems improvement, the structure of continued professional development for administrators also matters (Darling-Hammond et al., 2022; Leung-Gagne et al, 2022). Especially important to building the capacity of administrators is access to coordinated, continued professional development with structured learning opportunities such as through a cohort model, mentoring, one-on-one coaching, networking to build a professional community, applied learning opportunities, and problem solving related to the needs of individual children, including children with disabilities, children who are multilingual, and children from diverse socioeconomic backgrounds. In addition, we know that school and district-based administrators' greatest source of evidence-based practices and policy content are their national and state affiliate professional organizations. As such, partnering with these organizations, for the center and local administrators, would be an effective and efficient way to facilitate the dissemination of IDEA implementation information.

The goals of this national center are to (a) increase the capacity of school building and EIP administrators to meet the statutory and procedural requirements of IDEA to ensure that each child with a disability in their school or EIP receives FAPE consistent with the child's IEP or early intervention services consistent with the infant or toddler's IFSP; and (b) increase the capacity of school building and EIP administrators to improve services and outcomes for children with disabilities. The National Center for Supporting School Building and Early Intervention Program Administrators to Effectively Implement IDEA and Improve Systems Serving Children with Disabilities will (1) develop and provide high-quality professional development on IDEA requirements and implementation (e.g., IDEA related professional competencies) and essential research-based content on topics such as learning and teaching, the structure of continued professional development, instructional leadership, data-based decision making, and systems improvement to school building and EIP administrators; (2) build and support partnerships needed to support and sustain the delivery of intensive professional development on IDEA requirements and implementation to school building and EIP administrators to improve the outcomes of children with disabilities; and (3) develop and implement customized professional development and TA to address the unique needs and context of individual States and local environments.

Priority:

The purpose of this priority is to fund a cooperative agreement to establish and operate a National Center for Supporting School Building and EIP Administrators to Effectively Implement IDEA and Improve Systems Serving Children with Disabilities (Center). The Center will help SEAs and Part C lead agencies effectively implement IDEA by building the capacity of school building and EIP administrators to meet the requirements of IDEA.

The Center must achieve, at a minimum, the following expected outcomes:

(a) Establish and maintain State-level partnerships ¹ to help local administrators attain and maintain the essential IDEA-related professional competencies needed to ensure the delivery of FAPE in the LRE for children with disabilities and the provision of early intervention services for infants and toddlers with disabilities and their families;

¹ For the purpose of this priority, “State-level partnerships” refers to State affiliates of nationally recognized professional and family networks that form an infrastructure for policy development, dissemination of information, interaction, and learning with, among other entities, SEA and Part C lead agencies, local educational agencies and service providers, and institutions of higher education (“State-level partners”).

(b) Identify the IDEA-related professional competencies required for school building and EIP administrators to ensure the delivery of FAPE in the LRE for children with disabilities and early intervention services for infants and toddlers with disabilities and their families;

(c) Develop and disseminate openly licensed products designed for adult learners to increase knowledge, build skills, and provide practice-based opportunities that focus on the IDEA-related professional competencies that school building and EIP administrators must master to effectively implement IDEA in their school or EIP in order to improve outcomes for children;

(d) Deliver high-quality professional learning programs using the Center's openly licensed products and other available products designed for adult learners to increase knowledge, build skills, and provide practice-based opportunities that focus on the IDEA-related professional competencies that school building and EIP administrators must master to effectively implement IDEA in their school or EIP in order to improve outcomes for children;

(e) Evaluate the effectiveness over the life of the grant of professional development products and services the Center designed to increase the capacity of school building and EIP administrators to effectively implement IDEA, by identifying specific school building and EIP administrators to participate in a structured professional development program; and

(f) Enhance the capacity of State-level partners to use Center products and deliver high-quality professional development designed to increase the capacity of school building and EIP administrators to effectively implement IDEA.

In addition to these programmatic requirements, to be considered for funding under this priority, applicants must meet the application and administrative requirements in this priority, which are:

(a) Demonstrate, in the narrative section of the application under “Significance,” how the proposed project will—

(1) Address the need in the field for increased knowledge of the professional competencies needed by school building and EIP administrators to support effective implementation of IDEA. To meet this requirement, the applicant must—

(i) Demonstrate knowledge of common factors for why States do not meet the requirements of IDEA and strategies to address these challenges to improve outcomes for children;

(ii) Demonstrate knowledge of the professional competencies that school building and EIP administrators need to manage effective implementation of IDEA and its interaction with other Federal laws protecting the rights of children with disabilities; and

(iii) Demonstrate knowledge of effective approaches to forming or expanding and maintaining State-level partnerships to collaboratively develop or expand and deliver knowledge, teaching, and learning tools and resources that support leadership development for school building and EIP administrators managing special education programs and EIPs and that focus on the implementation of IDEA. The leadership development activities must focus on a variety of entities, including local educational and early intervention agencies; schools; EIS providers and programs; institutions of higher education (IHEs); other nonprofit organizations that provide special education, early intervention, or related services to children, infants, and toddlers with disabilities and their families; and other TA providers;

(2) Demonstrate knowledge of effective approaches to forming or expanding and maintaining State-level partnerships to collaboratively develop or expand and deliver evidence-based ² professional development to a variety of entities, including local educational and early intervention agencies; schools; EIS providers and programs; IHEs; other nonprofit organizations that provide special education, early intervention, or related services to children, infants, and toddlers with disabilities and their families; and other TA providers; and

² For the purposes of this priority, “evidence-based” means, at a minimum, evidence that demonstrates a rationale (as defined in 34 CFR 77.1), where a key project component included in the project's logic model is informed by research or evaluation findings that suggest the project component is likely to improve relevant outcomes.

(3) Improve outcomes for children with disabilities and their families by supporting school building and EIP administrators to effectively implement IDEA and improve systems serving children with disabilities and early intervention services for infants and toddlers with disabilities and their families. To meet this requirement, the applicant must—

(i) Present information and data on the current capacity of LEAs and EIS providers, IHEs, and other entities to provide training and TA needed to build the professional competencies of school building and EIP administrators to support delivery of special education and early intervention services, as mandated by IDEA;

(ii) Present information and data on the current capacity of LEAs and EIS providers, IHEs, and other entities to provide training and TA needed to build the professional competencies of school building and EIP administrators to improve systems delivering special education and early intervention services, as mandated by IDEA; and

(iii) Indicate the likely magnitude or importance of the improvements that the project is expected to make.

(b) Demonstrate, in the narrative section of the application under “Quality of project services,” how the proposed project will—

(1) Ensure equal access and treatment for members of groups that have traditionally been underrepresented based on race, color, national origin, gender, age, or disability;

(2) Identify the needs of the intended recipients for TA and information, specifically the needs of school building and EIP administrators to meet the statutory and procedural requirements of IDEA, and ensure that products and services meet the needs of the intended recipients;

(3) Achieve its goals, objectives, and intended outcomes. To meet this requirement, the applicant must provide—

(i) Measurable intended project outcomes; and

(ii) In Appendix A, the logic model (as defined in 34 CFR 77.1) by which the proposed project will achieve its intended outcomes that depicts, at a minimum, the goals, activities, outputs, and intended outcomes of the proposed project;

(4) Use a conceptual framework (and provide a copy in Appendix A) to develop project plans and activities, describing any underlying concepts, assumptions, expectations, beliefs, or theories, as well as the presumed relationships or linkages among these variables, and any empirical support for this framework;

Note: The following websites provide more information on logic models and conceptual frameworks: https://osepideasthatwork.org/sites/default/files/2021-12/ConceptualFramework_Updated.pdf and www.osepideasthatwork.org/resources-grantees/program-areas/ta-ta/tad-project-logic-model-and-conceptual-framework.

(5) Be based on current research and make use of evidence-based practices (EBPs). To meet this requirement, the applicant must describe—

(i) The current research on the professional competencies, implementation science, systems change, capacity building, and essential research-based content on topics such as learning and teaching, the structure of continued professional development, instructional leadership, data-based decision making, and systems improvement, for school building and EIP administrators of IDEA;

(ii) The current research about adult learning principles that will inform the proposed product development, training, and TA; and

(iii) How the proposed project will incorporate current research and EBPs in the development and delivery of its products and services;

(6) Develop products and provide services that are of high quality and sufficient intensity and duration to achieve the intended outcomes of the proposed project. To address this requirement, the applicant must describe—

(i) How it proposes to develop or expand the knowledge base that delineates the professional competencies (i.e., knowledge, skills, and dispositions) that school building and EIP administrators need to effectively implement IDEA and comply with other Federal laws protecting the rights of children with disabilities, support the delivery of FAPE to children with disabilities and early intervention services to infants and toddlers with disabilities and their families, and improve systems serving children with disabilities and their families;

(ii) Its plan to collaborate with State-level partners to develop and disseminate products and services for building the capacity of school building and EIP administrators to effectively implement IDEA, which should include, at a minimum, activities focused on—

(A) Establishing a cohort of States to assist in planning and development of products, training, and technical assistance protocols using their State-level partnerships; and

(B) Building the capacity of school building and EIP administrators in States, or in LEAs or EIPs, that do not meet requirements based on the Secretary's annual determination under section 616(d) of IDEA;

(iii) Its proposed approach to universal, general TA,³ which must identify the intended recipients, including the type and number of recipients, that will receive the products and services under this approach and must include, at minimum, activities focused on—

³ “Universal, general TA” means TA and information provided to independent users through their own initiative, resulting in minimal interaction with TA Center staff and including one-time, invited, or offered conference presentations by TA Center staff. This category of TA also includes information or products, such as newsletters, guidebooks, or research syntheses, downloaded from the TA Center's website by independent users. Brief communications by TA Center staff with recipients, either by telephone or email, are also considered universal, general TA.

(A) Partnering with SEAs and Part C lead agencies to support their efforts to develop and disseminate products for effective implementation of IDEA, including adding State-specific policies and procedures to such products, that align with Federal mandates for the delivery of FAPE in the LRE to children with disabilities and early intervention services to infants and toddlers with disabilities and their families;

(B) Partnering with State-level partners to support dissemination and use of Center products in personnel preparation and continuing professional development, and increase the reach of Center products and services to all States, the District of Columbia, U.S. territories, and, for Part B only, the freely associated States; and

(C) Differentiating products and services to address the roles and responsibilities of school building and EIP administrators in policy relating to, and management of, resources, personnel, and programs needed for effective implementation of IDEA;

(iv) Its proposed approach to targeted, specialized TA,⁴ which must identify—

⁴ “Targeted, specialized TA” means TA services based on needs common to multiple recipients and not extensively individualized. A relationship is established between the TA recipient and one or more TA Center staff. This category of TA includes one-time, labor-intensive events, such as facilitating strategic planning or hosting regional or national conferences. It can also include episodic, less labor-intensive events that extend over a period of time, such as facilitating a series of conference calls on single or multiple topics that are designed around the needs of the recipients. Facilitating communities of practice can also be considered targeted, specialized TA.

(A) The intended recipients, including the type and number of recipients, that will receive the products and services, a description of the products and services that the Center proposes to make available, and the expected impact of those products and services under this approach;

(B) Its proposed approach to identify the need for and measure the readiness of potential TA recipients to work with the project, assessing, at a minimum, the State's current determination status, with priority given to States that do not meet IDEA requirements based on the Secretary's annual determination under section 616(d) of IDEA, infrastructure, available resources, and ability to build capacity at the local level; and

(C) Its proposed approach to partner with SEAs and Part C lead agencies and collaborate with State-affiliated partners and Office of Special Education Programs (OSEP)-funded centers to support dissemination of products, training, and TA designed to address the needs of school building and EIP administrators across policy, management, and service delivery roles and responsibilities; and

(v) Its proposed approach to intensive, sustained TA,⁵ which must—

⁵ “Intensive, sustained TA” means TA services often provided on-site and requiring a stable, ongoing relationship between the TA Center staff and the TA recipient. “TA services” are defined as negotiated series of activities designed to reach a valued outcome. This category of TA should result in changes to policy, program, practice, or operations that support increased recipient capacity or improved outcomes at one or more systems levels.

(A) Identify the intended participants, including by Year 2, school building and EIP administrators in States or LEAs or EIPs that do not meet IDEA requirements based on the Secretary's annual determination under section 616(d) of IDEA;

(B) Include a description of the products and services that the Center proposes to make available, and the expected impact of those products and service under this approach;

(C) Describe its proposed approach to measure the readiness of the SEAs and Part C lead agencies to partner with the project; and

(D) Include its proposed plan for assisting SEAs and Part C lead agencies to partner with State-affiliated partners and OSEP-funded centers to build or enhance training systems that include professional development based on adult learning principles and coaching for school building and EIP administrators;

(7) Develop products and implement services that maximize efficiency. To address this requirement, the applicant must describe—

(i) How the proposed project will use technology to achieve the intended project outcomes;

(ii) With whom the proposed project will collaborate and the intended outcomes of this collaboration; and

(iii) How the proposed project will use non-project resources to achieve the intended project outcomes; and

(8) Develop a dissemination plan that describes how the applicant will systematically distribute information, products, and services to varied intended audiences, using a variety of dissemination strategies, to promote awareness and use of the Center's products and services.

(c) In the narrative section of the application under “Quality of the project evaluation,” include an evaluation plan for the project as described in the following paragraphs. The evaluation plan must describe measures of progress in implementation, including the criteria for determining the extent to which the project's products and services have met the goals for reaching its target population; measures of intended outcomes or results of the project's activities in order to evaluate those activities; and how well the goals or objectives of the proposed project, as described in its logic model, have been met.

The applicant must provide an assurance that, in designing the evaluation plan, it will—

(1) Designate, with the approval of the OSEP project officer, a project liaison with sufficient dedicated time, experience in evaluation, and knowledge of the project to work in collaboration with the Center to Improve Program and Project Performance (CIPP),⁶ the project director, and the OSEP project officer on the following tasks:

⁶ The major tasks of CIPP are to guide, coordinate, and oversee the design of formative evaluations for every large discretionary investment (i.e., those awarded $500,000 or more per year and required to participate in the 3+2 process) in OSEP's Technical Assistance and Dissemination; Personnel Development; Parent Training and Information Centers; and Educational Technology, Media, and Materials programs. The efforts of CIPP are expected to enhance individual project evaluation plans by providing expert and unbiased TA in designing the evaluations with due consideration of the project's budget. CIPP does not function as a third-party evaluator.

(i) Revise the logic model submitted in the application to provide for a more comprehensive measurement of implementation and outcomes and to reflect any changes or clarifications to the model discussed at the kick-off meeting;

(ii) Refine the evaluation design and instrumentation proposed in the application consistent with the revised logic model and using the most rigorous design suitable (e.g., prepare evaluation questions about significant program processes and outcomes; develop quantitative or qualitative data collections that permit both the collection of progress data, including fidelity of implementation, as appropriate, and the assessment of project outcomes; and identify analytic strategies); and

(iii) Revise the evaluation plan submitted in the application such that it clearly—

(A) Specifies the evaluation questions, measures, and associated instruments or sources for data appropriate to answer these questions, suggests analytic strategies for those data, provides a timeline for conducting the evaluation, and includes staff assignments for completing the evaluation activities;

(B) Delineates the data expected to be available by the end of the second project year for use during the project's evaluation (3+2 review) for continued funding described under the heading Fourth and Fifth Years of the Project; and

(C) Can be used to assist the project director and the OSEP project officer, with the assistance of CIPP, as needed, to specify the project performance measures to be addressed in the project's annual performance report;

(2) Dedicate sufficient staff time and other resources during the first six months of the project to collaborate with CIPP staff, including regular meetings (e.g., weekly, biweekly, or monthly) with CIPP and the OSEP project officer, to accomplish the tasks described in paragraph (c)(1) of this section; and

(3) Dedicate sufficient funds in each budget year to cover the costs of carrying out the tasks described in paragraphs (c)(1) and (2) of this section and revising and implementing the evaluation plan. Please note in your budget narrative the funds dedicated for this activity.

(d) Demonstrate, in the narrative section of the application under “Adequacy of resources and quality of project personnel,” how—

(1) The proposed project will encourage applications for employment from persons who are members of groups that have traditionally been underrepresented based on race, color, national origin, gender, age, or disability, as appropriate;

(2) The proposed key project personnel, consultants, and subcontractors have the qualifications and experience to carry out the proposed activities and achieve the project's intended outcomes;

(3) The applicant and any key partners have adequate resources to carry out the proposed activities; and

(4) The proposed costs are reasonable in relation to the anticipated results and benefits.

(e) Demonstrate, in the narrative section of the application under “Quality of the management plan,” how—

(1) The proposed management plan will ensure that the project's intended outcomes will be achieved on time and within budget. To address this requirement, the applicant must describe—

(i) Clearly defined responsibilities for key project personnel, consultants, and subcontractors, as applicable; and

(ii) Timelines and milestones for accomplishing the project tasks;

(2) Key project personnel and any consultants and subcontractors will be allocated and how these allocations are appropriate and adequate to achieve the project's intended outcomes;

(3) The proposed management plan will ensure that the products and services provided are of high quality, relevant, and useful to recipients; and

(4) The proposed project will benefit from a diversity of perspectives, including those of families, educators, TA providers, researchers, and policy makers, among others, in its development and operation.

(f) Address the following application requirements. The applicant must—

(1) Include, in Appendix A, personnel-loading charts and timelines, as applicable, to illustrate the management plan described in the narrative;

(2) Include, in the budget, attendance at the following:

(i) A one and one-half day kick-off meeting in Washington, DC, after receipt of the award, and an annual planning meeting in Washington, DC, with the OSEP project officer and other relevant staff during each subsequent year of the project period.

Note: Within 30 days of receipt of the award, a post-award teleconference must be held between the OSEP project officer and the grantee's project director or other authorized representative;

(ii) A two and one-half day project directors' conference in Washington, DC, during each year of the project period;

(iii) Two annual two-day trips to attend Department briefings, Department-sponsored conferences, and other meetings, as requested by OSEP; and

(iv) A one-day intensive 3+2 review meeting in Washington, DC, during the last half of the second year of the project period;

(3) Include, in the budget, a line item for an annual set-aside of 5 percent of the grant amount to support emerging needs that are consistent with the proposed project's intended outcomes, as those needs are identified in consultation with, and approved by, the OSEP project officer. With approval from the OSEP project officer, the project must reallocate any remaining funds from this annual set-aside no later than the end of the third quarter of each budget period;

(4) Maintain a high-quality website, with an easy-to-navigate design, that meets government or industry-recognized standards for accessibility;

(5) Ensure that annual project progress toward meeting project goals is posted on the project website; and

(6) Include, in Appendix A, an assurance to assist OSEP with the transfer of pertinent resources and products and to maintain the continuity of services to States during the transition to this new award period and at the end of this award period, as appropriate.

Fourth and Fifth Years of the Project:

In deciding whether to continue funding the project for the fourth and fifth years, the Secretary will consider the requirements of 34 CFR 75.253(a), including—

(a) The recommendations of a 3+2 review team consisting of experts who have experience and knowledge in implementing IDEA and improving systems serving children with disabilities. This review will be conducted during a one-day intensive meeting that will be held during the last half of the second year of the project period;

(b) The timeliness with which, and how well, the requirements of the negotiated cooperative agreement have been or are being met by the project; and

(c) The quality, relevance, and usefulness of the project's products and services and the extent to which the project's products and services are aligned with the project's objectives and likely to result in the project achieving its intended outcomes.

Under 34 CFR 75.253, the Secretary may reduce continuation awards or discontinue awards in any year of the project period for excessive carryover balances or a failure to make substantial progress. The Department intends to closely monitor unobligated balances and substantial progress under this program and may reduce or discontinue funding accordingly.

References

Boyce, J. & Bowers, A.J. (2016). Principal turnover: Are there different types of principals who move from or leave their schools? A latent class analysis of the 2007-2008 Schools and Staffing Survey and the 2008-2009 Principal Follow-Up Survey. Leadership and Policy in Schools, 15(3), 237-272.

Darling-Hammond, L., Wechsler, M.E., Levin, S., Leung-Gagné, M., & Tozer, S. (2022). Developing effective principals: What kind of learning matters? [Report]. Learning Policy Institute. https://doi.org/10.54300/641.201.

Herman, R., Wang, E.L., Woo, A., Gates, S.M., Berglund, T., Schweig, J., Andrew, M., & Todd, I. (2022). Redesigning university principal preparation programs: A systemic approach for change and sustainability. A Rand Principal Preparation Series, 3(2). www.wallacefoundation.org/knowledge-center/pages/redesigning-university-principal-preparation-programs-a-systemic-approach-for-change-and-sustainability.aspx.

Leung-Gagné, M., Levin, S., & Wechsler, M.E. (2022). Developing effective principals: What kind of learning matters? [Technical supplement]. Learning Policy Institute. https://learningpolicyinstitute.org/product/developing-effective-principals-report.

Levin, S. & Bradley, K. (2019). Understanding and addressing principal turnover: A review of the research. National Association of Secondary School Principals. https://learningpolicyinstitute.org/product/nassp-understanding-addressing-principal-turnover-review-research-report.

U.S. Department of Education, Office of Special Education Programs. 2022. 43rd Annual Report to Congress on the Implementation of the Individuals with Disabilities Education Act, 2021. www.ed.gov/about/reports/annual/osep.

Waiver of Proposed Rulemaking: Under the Administrative Procedure Act (APA) (5 U.S.C. 553) the Department generally offers interested parties the opportunity to comment on proposed priorities. Section 681(d) of IDEA, however, makes the public comment requirements of the APA inapplicable to the absolute priority in this notice.

Program Authority: 20 U.S.C. 1462 and 1481.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474.

Note: The regulations in 34 CFR part 79 apply to all applicants except federally recognized Indian Tribes.

Note: The regulations in 34 CFR part 86 apply to IHEs only.

II. Award Information

Type of Award: Cooperative agreement.

Estimated Available Funds: $3,000,000.

Contingent upon the availability of funds and the quality of applications, we may make additional awards in FY 2024 from the list of unfunded applications from this competition.

Maximum Award: We will not make an award exceeding $15,000,000 for a project period of 60 months or an award that exceeds $4,000,000 for any single budget period.

Estimated Number of Awards: 1.

Note: The Department is not bound by any estimates in this notice.

Project Period: Up to 60 months.

III. Eligibility Information

1. Eligible Applicants: SEAs; IHEs; other public agencies, including State lead agencies; private nonprofit organizations; public agencies from the freely associated States and outlying areas; Indian Tribes or Tribal organizations; and for-profit organizations.

2.a. Cost Sharing or Matching: This program does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200 subpart E of the Uniform Guidance.

3. Subgrantees: Under 34 CFR 75.708(b) and (c), a grantee under this competition may award subgrants—to directly carry out project activities described in its application—to the following types of entities: IHEs, nonprofit organizations, and public agencies. The grantee may award subgrants to entities it has identified in an approved application or that it selects through a competition under procedures established by the grantee, consistent with 34 CFR 75.708(b)(2).

4. Other General Requirements: a. Recipients of funding under this competition must make positive efforts to employ and advance in employment qualified individuals with disabilities (see section 606 of IDEA).

b. Applicants for, and recipients of, funding must, with respect to the aspects of their proposed project relating to the absolute priority, involve individuals with disabilities, or parents of individuals with disabilities ages birth through 26, in planning, implementing, and evaluating the project (see section 682(a)(1)(A) of IDEA).

IV. Application and Submission Information

1. Application Submission Instructions: Applicants are required to follow the Common Instructions for Applicants to Department of Education Discretionary Grant Programs, published in the Federal Register on December 7, 2022 (87 FR 75045) and available at www.federalregister.gov/documents/2022/12/07/2022-26554/common-instructions-for-applicants-to-department-of-education-discretionary-grant-programs, which contain requirements and information on how to submit an application. Please note that these Common Instructions supersede the version published on December 27, 2021.

2. Intergovernmental Review: This competition is subject to Executive Order 12372 and the regulations in 34 CFR part 79. However, under 34 CFR 79.8, we waive intergovernmental review in order to man an award by the end of FY 2023.

3. Funding Restrictions: We reference regulations outlining funding restrictions in the Applicable Regulations section of this notice.

4. Recommended Page Limit: The application narrative is where you, the applicant, address the selection criteria that reviewers use to evaluate your application. We recommend that you (1) limit the application narrative to no more than 70 pages and (2) use the following standards:

• A “page” is 8.5″ x 11″, on one side only, with 1″ margins at the top, bottom, and both sides.

• Double-space (no more than three lines per vertical inch) all text in the application narrative, including titles, headings, footnotes, quotations, reference citations, and captions, as well as all text in charts, tables, figures, graphs, and screen shots.

• Use a font that is 12 point or larger.

• Use one of the following fonts: Times New Roman, Courier, Courier New, or Arial.

The recommended page limit does not apply to the cover sheet; the budget section, including the narrative budget justification; the assurances and certifications; or the abstract (follow the guidance provided in the application package for completing the abstract), the table of contents, the list of priority requirements, the resumes, the reference list, the letters of support, or the appendices. However, the recommended page limit does apply to all of the application narrative, including all text in charts, tables, figures, graphs, and screen shots.

V. Application Review Information

1. Selection Criteria: The selection criteria for this competition are from 34 CFR 75.210 and are listed below:

(a) Significance (10 points).

(1) The Secretary considers the significance of the proposed project.

(2) In determining the significance of the proposed project, the Secretary considers the following factors:

(i) The extent to which specific gaps or weaknesses in services, infrastructure, or opportunities have been identified and will be addressed by the proposed project, including the nature and magnitude of those gaps or weaknesses.

(ii) The importance or magnitude of the results or outcomes likely to be attained by the proposed project.

(b) Quality of project services (35 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the goals, objectives, and outcomes to be achieved by the proposed project are clearly specified and measurable.

(ii) The extent to which there is a conceptual framework underlying the proposed research or demonstration activities and the quality of that framework.

(iii) The extent to which the services to be provided by the proposed project reflect up-to-date knowledge from research and effective practice.

(iv) The extent to which the training or professional development services to be provided by the proposed project are of sufficient quality, intensity, and duration to lead to improvements in practice among the recipients of those services.

(v) The extent to which the TA services to be provided by the proposed project involve the use of efficient strategies, including the use of technology, as appropriate, and the leveraging of non-project resources.

(c) Quality of the project evaluation (20 points).

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The extent to which the methods of evaluation will provide performance feedback and permit periodic assessment of progress toward achieving intended outcomes.

(d) Adequacy of resources and quality of project personnel (15 points).

(1) The Secretary considers the adequacy of resources for the proposed project and the quality of the personnel who will carry out the proposed project.

(2) In determining the quality of project personnel, the Secretary considers the extent to which the applicant encourages applications for employment from persons who are members of groups that have traditionally been underrepresented based on race, color, national origin, gender, age, or disability.

(3) In addition, the Secretary considers the following factors:

(i) The qualifications, including relevant training and experience, of key project personnel.

(ii) The qualifications, including relevant training and experience, of project consultants or subcontractors.

(iii) The adequacy of support, including facilities, equipment, supplies, and other resources, from the applicant organization or the lead applicant organization.

(iv) The relevance and demonstrated commitment of each partner in the proposed project to the implementation and success of the project.

(v) The extent to which the costs are reasonable in relation to the objectives, design, and potential significance of the proposed project.

(e) Quality of the management plan (20 points).

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The extent to which the time commitments of the project director and principal investigator and other key project personnel are appropriate and adequate to meet the objectives of the proposed project.

(iii) The adequacy of mechanisms for ensuring high-quality products and services from the proposed project.

(iv) How the applicant will ensure that a diversity of perspectives are brought to bear in the operation of the proposed project, including those of parents, teachers, the business community, a variety of disciplinary and professional fields, recipients or beneficiaries of services, or others, as appropriate.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

3. Additional Review and Selection Process Factors: In the past, the Department has had difficulty finding peer reviewers for certain competitions because so many individuals who are eligible to serve as peer reviewers have conflicts of interest. The standing panel requirements under section 682(b) of IDEA also have placed additional constraints on the availability of reviewers. Therefore, the Department has determined that applications may be separated into two or more groups and ranked and selected for funding within specific groups for some discretionary grant competitions, applications may be separated into two or more groups and ranked and selected for funding within specific groups. This procedure will make it easier for the Department to find peer reviewers by ensuring that greater numbers of individuals who are eligible to serve as reviewers for any particular group of applicants will not have conflicts of interest. It also will increase the quality, independence, and fairness of the review process, while permitting panel members to review applications under discretionary grant competitions for which they also have submitted applications.

4. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

5. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

6. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case the Secretary establishes a data collection period.

5. Performance Measures: For the purposes of Department reporting under 34 CFR 75.110, we have established a set of performance measures, including long-term measures, that are designed to yield information on various aspects of the effectiveness and quality of the Technical Assistance and Dissemination to Improve Services and Results for Children With Disabilities program, which apply to projects funded under this competition. Grantees are required to submit data on these measures as directed by OSEP. These measures are:

• Program Performance Measure 1: The percentage of Technical Assistance and Dissemination products and services deemed to be of high quality by an independent review panel of experts qualified to review the substantive content of the products and services.

• Program Performance Measure 2: The percentage of Special Education Technical Assistance and Dissemination products and services deemed by an independent review panel of qualified experts to be of high relevance to special education personnel preparation and professional development, or practice.

• Program Performance Measure 3: The percentage of all Special Education Technical Assistance and Dissemination products and services deemed by an independent review panel of qualified experts to be useful in improving special education personnel preparation and professional development, or practice.

• Program Performance Measure 4: The cost efficiency of the Technical Assistance and Dissemination Program, including the percentage of milestones achieved in the current annual performance report period and the percentage of funds spent during the current fiscal year.

• Long-term Program Performance Measure: The percentage of States receiving Special Education Technical Assistance and Dissemination services regarding scientifically or evidence-based practices for children and youth with disabilities that successfully promote the implementation of those practices in school districts and service agencies.

Grantees will be required to report information on their project's performance in annual and final performance reports to the Department (34 CFR 75.590).

The Department will also closely monitor the extent to which the products and services provided by the Center meet needs identified by stakeholders and may require the Center to report on such alignment in its annual and final performance reports.

6. Continuation Awards: In making a continuation award under 34 CFR 75.253, the Secretary considers, among other things: whether a grantee has made substantial progress in achieving the goals and objectives of the project; whether the grantee has expended funds in a manner that is consistent with its approved application and budget; and, if the Secretary has established performance measurement requirements, whether the grantee has made substantial progress in achieving the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at www.federalregister.gov. Specifically, through the advanced search feature at this site, you can limit your search to documents published by the Department.

Glenna Wright-Gallo,
Assistant Secretary for Special Education and Rehabilitative Services.

[FR Doc. 2023-13934 Filed 6-27-23; 4:15 pm]

BILLING CODE 4000-01-P